DEPARTMENT OF THE INTERIOR

Bureau of Land Management

[BLM_MT_FRN_MO4500180832]

Public Meeting of the Missouri Basin Resource Advisory Council

AGENCY: Bureau of Land Management, Interior.

ACTION: Notice of public meeting.

SUMMARY: In accordance with the Federal Land Policy and Management Act of 1976 and the Federal Advisory Committee Act of 1972, the U.S. Department of the Interior, Bureau of Land Management's (BLM) Missouri Basin Resource Advisory Council (RAC) will meet as follows.

DATES: The Missouri Basin RAC will meet on September 11, 2024, from 12 p.m. to 5 p.m. Mountain Time.

ADDRESSES: The meeting will be held at the Glasgow City-County Library, 408 3rd Avenue South, Glasgow, MT 59230. A virtual participation option will also be available. Individuals who wish to participate virtually must register with the contact person listed below at least 7 business days prior to the meeting date.

FOR FURTHER INFORMATION CONTACT: Gina Baltrusch, Missouri Basin RAC Coordinator, BLM North Central Montana District, 1220 38th Street North, Great Falls, MT 59405; telephone: 406-308-9387; email: rbaltrusch@blm.gov.

Individuals in the United States who are deaf, deafblind, hard of hearing, or have a speech disability may dial 711 (TTY, TDD, or TeleBraille) to access telecommunications relay services. Individuals outside the United States should use the relay services offered within their country to make international calls to the point-of-contact in the United States. Please make requests in advance for sign language interpreter services, language translation services, assistive listening devices, or other reasonable accommodations. We ask that you contact the person listed above at least 14 business days prior to the meeting to give the BLM sufficient time to process your request. All reasonable accommodation requests are managed on a case-by-case basis.

SUPPLEMENTARY INFORMATION: The 15-member RAC advises the Secretary of the Interior, through the BLM, on a variety of planning and management issues associated with public land management in Central and Eastern Montana, and North and South Dakota. Agenda topics will include North-Central Montana and Eastern Montana/Dakotas districts' reports, Field Office manager reports, a public comment period, and other topics the council may wish to cover. A final agenda will be posted on the RAC's web page at https://www.blm.gov/get-involved/resourceadvisory-council/near-you/montanadakotas/missouri-basin-rac two weeks in advance of the meeting. The meeting is open to the public, with a public comment period offered at 4 p.m. Written comments to the RAC can be emailed in advance to the individual listed in the FOR FURTHER INFORMATION CONTACT section of this notice.

Depending on the number of persons wishing to comment and time available, the time for individual oral comments may be limited. Before including your address, phone number, email address, or other personal identifying information in your comments, please be aware that your entire comment, including your personally identifying information, may be made publicly available at any time. While you can ask us in your comment to withhold your personally identifying information from public review, we cannot guarantee that we will be able to do so.

(Authority: 43 CFR 1784.4-2).

Wendy Warren,
Eastern Montana/Dakotas District Manager and Missouri Basin RAC Designated Federal Official.

[FR Doc. 2024-17591 Filed 8-7-24; 8:45 am]

BILLING CODE 4331-20-P